DEPARTMENT OF THE INTERIOR

Bureau of Land Management

[LLMTC02200-L14300000-EQ0000; MTM-74913]

Notice of Realty Action: Proposed Amendment to Noncompetitive Land Use Lease MTM 74913, Montana

AGENCY: Bureau of Land Management, Interior.

ACTION: Notice.

SUMMARY: The Bureau of Land Management (BLM) has received a proposal to amend Spring Creek Coal, LLC's existing Land Use Lease (LUL) MTM-74913, pursuant to Section 302 of the Federal Land Policy and Management Act (FLPMA) of 1976, as amended, for not less than the appraised fair market value.

DATES: Interested parties may submit comments on or before January 30, 2017.

ADDRESSES: Send written comments to the Field Manager, Miles City Field Office, Bureau of Land Management, 111 Garryowen Road, Miles City, MT 59301.

FOR FURTHER INFORMATION CONTACT: Beth Klempel, BLM Miles City Field Office, 111 Garryowen Road, Miles City, MT 59301, telephone 406-233-2800, or email bklempel@blm.gov. Persons who use a telecommunications device for the deaf (TDD) may call the Federal Information Relay Service (FIRS) at 1-800-877-8339 to contact Ms. Klempel during normal business hours. The FIRS is available 24 hours a day, 7 days a week, to leave a message or question for Ms. Klempel. You will receive a reply during normal business hours. Normal business hours are 7:45 a.m. to 4:30 p.m., Monday through Friday, except for Federal holidays.

SUPPLEMENTARY INFORMATION: The following described lands include the proposed LUL amendment and have been determined as suitable for leasing under Section 302 of FLPMA (43 U.S.C. 1732):

Principal Meridian, Montana

T. 8 S., R. 39 E.,

Sec. 22, N½SW¼NE¼, N½SE¼SW¼NE¼, W½SE¼NE¼, and SE¼SE¼NE¼.

T. 9 S., R. 39 E.,

Sec. 1, SE¼SW¼.

T. 9 S., R. 40 E.,

Sec. 7, N½NE¼, N½SW¼NE¼, N½SE¼NE¼, N½SW¼ SW¼NE ¼, N½SE¼SW¼NE¼, N½SW¼SE¼NE¼, and N½SE¼SE¼NE¼.

Sec. 8, N½SW¼NW¼.

The areas described aggregate 255 acres.

The BLM is considering amending the existing LUL, which is 222.12 acres. The amendment would modify its size to authorize the surface use of 255 additional acres of public lands for coal mine layback, establishing a highwall crest, topsoil and overburden stockpiles, and transportation and utility corridors on Spring Creek Coal, LLC's existing LUL MTM-74913. Although based on available information, the BLM estimates that only 155 acres of disturbance will occur within the 255 acre area described above.

The amendment has been requested to facilitate recovery of coal reserves from Spring Creek Coal, LLC's adjoining Federal coal leases MTM-94378 and MTM-69782, Montana State coal lease C-1088-05, and for Spring Creek, LLC's to ultimately access the coal contained within its pending coal lease modification MTM-94378 and coal lease by application MTM-105485, if they were to be approved. Layback on the area covered by the LUL is a critical component in coal surface mine recovery, which consists of a series of benches cut into the mine highwall to stabilize the wall as mining progresses into an area.

If the LUL amendment were to be approved, the coal lessee will: (1) Remove the topsoil from the coal leases and stockpile it on the above-described lands and use it for reclamation after mining; (2) Remove the overburden from the pit and stockpile it on the subject lands to be used in post-mining topography construction; (3) Locate an electric line and distribution station within the use area at a safe distance from the pit and grading activity; (4) Construct access/haul roads to use in the mining process and to access the stockpiles; and (5) Cut benches into the mine highwall to stabilize the wall as mining progresses into an area.

The BLM is considering offering the land use lease amendment noncompetitively to Spring Creek Coal, LLC to amend its existing LUL MTM-74913 because the authorized officer has determined that: (1) These parcels are surrounded by land owned or controlled by Spring Creek Coal, LLC; and (2) It is unlikely there would be interest in competitive bidding in these lands. The BLM does not authorize mineral use under this LUL amendment; however, Spring Creek Coal, LLC applied for a modification of coal lease MTM-94378 and submitted a coal lease by application request (MTM-105485). The BLM will process the LUL amendment and coal lease modification concurrently in accordance with 43 CFR 2920 and 43 CFR 3432, and will process the lease by application separately in accordance with 43 CFR 3425.

Any application filed for this LUL amendment must reference this Notice and provide a complete description of the proposed project. If the BLM accepts the application to amend the LUL, the reimbursement of costs and the annual rental is the responsibility of the applicant in accordance with the provisions of 43 CFR 2920.6 and 43 CFR 2920.8, respectively. This LUL amendment is consistent with the applicable Resource Management Plan.

The BLM will complete an environmental analysis addressing the proposed LUL amendment, proposed amendment to an existing land use permit, coal lease modification, and coal lease by application in accordance with the National Environmental Policy Act of 1969, prior to making a decision to approve the proposed applications. The BLM will solicit public comment in support of scoping for the environmental analysis. You may review the proposed LUL amendment at the BLM Miles City Field Office. Interested parties may submit in writing any comments concerning the LUL amendment to the BLM Field Manager listed under ADDRESSES above.

Comments on the proposed LUL amendment should be specific, confined to issues pertinent to the proposed action, and should explain the reason for any recommended revisions. Where possible, comments should reference the specific section or paragraph of the proposal. The BLM is not obligated to consider or include in the Administrative Record comments received after the close of the comment period or comments delivered to an address other than the one listed above.

Comments, including names and street addresses of respondents, will be available for public review at the BLM Miles City Field Office address listed in ADDRESSES above. Before including your address, phone number, email address, or other personal identifying information in your comments, you should be aware that your entire comment—including your personal identifying information—may be made publicly available at any time. While you can ask us in your comment to withhold your personal identifying information from public review, we cannot guarantee that we will be able to do so.

Any adverse comments regarding the proposed LUL amendment will be reviewed by the BLM Montana State Director or other authorized official of the Department of the Interior, who may sustain, vacate, or modify this realty action in whole or in part. In the absence of timely filed objections, this realty action will become the final determination of the Department of the Interior.

Authority: 43 CFR 2920.4, 43 CFR 3430.3-2

Diane M. Friez,
Eastern Montana/Dakotas District Manager.

[FR Doc. 2016-29964 Filed 12-13-16; 8:45 am]

BILLING CODE 4310-DN-P